DEPARTMENT OF HEALTH AND HUMAN SERVICES

Centers for Medicare & Medicaid Services

[Document Identifiers: CMS-10553, CMS-R-305 and CMS-10492]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by September 6, 2022.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at: https://www.cms.gov/Regulations-and-Guidance/Legislation/PaperworkReductionActof1995/PRA-Listing

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Title of Information Collection: Medicaid Managed Care Quality including Supporting Regulations; Type of Information Collection Request: Extension of a currently approved collection; Use: Medicaid beneficiaries and stakeholders use the information collected and reported to understand the state's quality improvement goals and objectives, and to understand how the state is measuring progress on its goals. States use this information to help monitor and assess the performance of their Medicaid managed care programs. This information may assist states in comparing the outcomes of quality improvement efforts and can assist them in identifying future performance improvement subjects. CMS uses this information as a part of its oversight of Medicaid programs. Form Number: CMS-10553 (OMB control number: 0938-1281); Frequency: Annually; Affected Public: Private Sector, Business or other for-profits and State, Local or Tribal Governments; Number of Respondents: 376; Number of Responses: 2,655; Total Annual Hours: 36,010. (For questions regarding this collection contact Jennifer Maslowski at 312-886-2567.)

2. Title of Information Collection: External Quality Review (EQR) of Medicaid and Children's Health Insurance Program (CHIP) Managed Care, EQR Protocols, and Supporting Regulations; Type of Information Collection Request: Revision of a currently approved collection; Use: This 2022 information collection request proposes to revise the active external quality review (EQR) protocols (which were last revised in 2019). The revisions would: (1) align the existing protocols, appendices, and worksheets with the 2020 Medicaid managed care final rule, and (2) add a new protocol, Validation of Network Adequacy (RIN 0938-AS25, CMS-2480-F). A summary of these changes includes, but is not limited to, adding three elements to 42 CFR 438.358(b)(1)(iii) to include a review of elements 438.56, 438.100, and 438.114; establishing the first protocol for the new mandatory activity described in 438.358(b)(1)(iv) for network adequacy validation for managed care organizations (MCOs), prepaid inpatient health plans (PIHPs), and prepaid ambulatory health plans (PAHPs); and other formatting changes. Form Number: CMS-R-305 (OMB control number: 0938-0786); Frequency: Annually; Affected Public: Private Sector, Business or other for-profits and State, Local or Tribal Governments; Number of Respondents: 603; Number of Responses: 5,945; Total Annual Hours: 413,310. (For questions regarding this collection contact Jennifer Maslowski at 312-886-2567.)

3. Type of Information Collection Request: Reinstatement without change of a previously approved collection; Title of Information Collection: Data Submission for the Federally-facilitated Exchange User Fee Adjustment; Use: Section 2713 of the Public Health Service Act requires coverage without cost sharing of certain preventive health services, including certain contraceptive services, in non-exempt, non-grandfathered group health plans and health insurance coverage. The final regulations establish rules under which the third party administrator of the plan would provide or arrange for a third party to provide separate contraceptive coverage to plan participants and beneficiaries without cost sharing, premium, fee, or other charge to plan participants or beneficiaries or to the eligible organization or its plan. Eligible organizations are required to self-certify that they are eligible for this accommodation and provide a copy of such self-certification to their third party administrators. The final rules also set forth processes and standards to fund the payments for the contraceptive services that are provided for participants and beneficiaries in self-insured plans of eligible organizations under the accommodation described previously, through an adjustment in the FFE user fee payable by an issuer participating in an FFE.

CMS will use the data collections from participating issuers and third party administrators to verify the total dollar amount for such payments for contraceptive services provided under this accommodation for the purpose of determining a participating issuer's user fee adjustment. The attestation that the payments for contraceptive services were made in compliance with 26 CFR 54.9815-2713A(b)(2) or 29 CFR 2590.715-2713A(b)(2) will help ensure that the user fee adjustment is being utilized to provide contraceptive services for the self-insured plans in accordance with the previously noted accommodation. Form Number: CMS-10492 (OMB control number: 0938-1285); Frequency: Annually; Affected Public: Private sector (Business or other for-profits and Not-for-profit institutions); Number of Respondents: 861; Total Annual Responses: 861; Total Annual Hours: 12,930. (For policy questions regarding this collection contact Jacqueline Wilson at jacqueline.wilson1@cms.hhs.gov.)

Dated: August 2, 2022.
William N. Parham, III,
Director, Paperwork Reduction Staff, Office of Strategic Operations and Regulatory Affairs.

[FR Doc. 2022-16864 Filed 8-4-22; 8:45 am]

BILLING CODE 4120-01-P